DEPARTMENT OF DEFENSE

Office of the Secretary

[Docket ID DOD-2012-OS-0037]

Proposed Collection; Comment Request

AGENCY: Defense Logistics Agency, DoD.

ACTION: Notice.

SUMMARY: In compliance with Section 3506(c)(2)(A) of the Paperwork Reduction Act of 1995, the Defense Logistics Agency announces a proposed public information collection and seeks public comment on the provisions thereof. Comments are invited on: (a) Whether the collection of information is necessary for the proper performance of the functions of the agency, including whether the information shall have practical utility; (b) the accuracy of the agency's estimate of the burden of the reinstated information collection; (c) ways to enhance the quality, utility, and clarity of the information to be collected; and (d) ways to minimize the burden of the information collection on respondents, including through the use of automated collection techniques or other forms of information technology.

DATES: Consideration will be given to all comments received by May 21, 2012.

ADDRESSES: You may submit comments, identified by docket number and title, by any of the following methods:

• Federal eRulemaking Portal: http://www.regulations.gov. Follow the instructions for submitting comments.

• Mail: Federal Docket Management System Office, 4800 Mark Center Drive, 2nd Floor, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Defense Logistics Agency Headquarters, Attn: Ms. Peggy Hinson, DS-Q, 8725 John J. Kingman Rd., Ft. Belvoir, VA 22060-6221; or call (703) 767-7103.

Title; Associated Form; and OMB Number: Day Care Facility Registrant, Applicant and Enrollee Records. DLA Form 1854. OMB Control Number: 0704-TBD.

Needs and Uses: The Application of Child Care Services Form, DLA Form 1854, is used to request child care services provided by DLA managed facilities. Enrollee records are provided to the Child and Youth Programs Coordinator, the CDP Director, and the Headquarters DLA Inspection Team upon request for the purpose of ensuring safe and effective services.

Waiting List Applicant records include the names of the sponsor and spouse (when applicable); home and electronic mail addresses; work, home, cell telephone numbers; place of employment; rank or civilian pay grade; child's name and birth date documentation of any special needs or health concerns regarding the child, to include documentation of food restrictions; physical abilities and limitations; physical, emotional, or other special care requirements (including restrictions or special precautions concerning diet); special services Individual Development Plans (IDP) when special needs have already been diagnosed.

Enrollee records include all items listed above plus names and phone numbers of emergency points of contact; medical, dental and insurance provider data; medical examination reports, health assessments and screening results; immunization, allergy and medication information; documentation of Special Needs Resource Team (SNRT) meetings (when applicable)as well as serious event/incident report forms; symptom records; and other records used to provide effective services.

Affected Public: Children of contractor personnel who are enrolled in, or have applied for admission to, a DLA-managed child care facility.

Annual Burden Hours: 10.

Number of Respondents: 30.

Responses Per Respondent: 1

Average Burden per Response: 0.33 hours (20 minutes)

Frequency: On occasion.

SUPPLEMENTARY INFORMATION:

Summary of Information Collection

Enrollment data is collected to effectively manage a DLA Child Care facility. Information collected includes the names of the sponsor and spouse (when applicable); contact information; place of employment; rank or civilian pay grade; child's name and birth date, documentation of any special needs or health concerns regarding the child, as well as other documentation (as stated above) necessary to provide quality child care services.

Dated: March 19, 2012.
Aaron Siegel,
Alternate OSD Federal Register Liaison Officer, Department of Defense.

[FR Doc. 2012-6899 Filed 3-21-12; 8:45 am]

BILLING CODE 5001-06-P